DEPARTMENT OF TRANSPORTATION

Office of the Secretary

Notice of Applications for Certificates of Public Convenience and Necessity and Foreign Air Carrier Permits Filed Under Subpart B (Formerly Subpart Q) During the Week Ending August 11, 2006

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2006-25577.

Date Filed: August 8, 2006.

Due Date for Answers, Conforming Applications, or Motion to Modify Scope: August 29, 2006.

Description: Application of Taga Air Charter Service, Inc. requesting authority to engage in scheduled passenger operations between the Northern Mariana Islands, Saipan, Tinian and Rota, eventually expanding to include service to Guam as a commuter air carrier.

Docket Number: OST-2006-25616.

Date Filed: August 11, 2006.

Due Date for Answers, Conforming Applications, or Motion to Modify Scope: September 1, 2006.

Description: Application of ELYSAIR SAS d/b/a ELYSAIR requesting a foreign air carrier permit to engage in (i) Scheduled foreign air transportation of persons, property and mail between any point or points in France and points in the United States coextensive with the rights provided under the bilateral agreement, and (ii) charter foreign air transportation of persons, property and mail pursuant to the U.S.-France Air Transport Agreement and Part 212.

Renee V. Wright,
Program Manager, Docket Operations, Federal Register Liaison.

[FR Doc. 06-7309 Filed 8-30-06; 8:45 am]

BILLING CODE 4910-9X-P